DEPARTMENT OF AGRICULTURE

Rural Utilities Service

Information Collection Activity; Comment Request

AGENCY: Rural Utilities Service, USDA.

ACTION: Notice and request for comments.

SUMMARY: In accordance with the Paperwork Reduction Act of 1995, the United States Department of Agriculture's (USDA) Rural Utilities Service (RUS) invites comments on this information collection for which the Agency intends to request approval from the Office of Management and Budget (OMB).

DATES: Comments on this notice must be received by December 28, 2018.

FOR FURTHER INFORMATION CONTACT: Michele Brooks, Team Lead, Rural Development Innovation Center—Regulations Management, Rural Development, USDA, 1400 Independence Ave. SW, STOP 1522, Room 5168 South Building, Washington, DC 20250-1522. Telephone: (202) 690-1078. Email: Michele.Brooks@usda.gov.

SUPPLEMENTARY INFORMATION: The Office of Management and Budget's (OMB) regulation (5 CFR part 1320) implementing provisions of the Paperwork Reduction Act of 1995(Pub. L. 104-13) requires that interested members of the public and affected agencies have an opportunity to comment on information collection and recordkeeping activities (see 5 CFR 1320.8(d)). This notice identifies an information collection that RUS is submitting to OMB as a revision to an existing collection. Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to: MaryPat Daskal, Management Analyst, Rural Development Innovation Center-Regulations Management, Rural Development, U.S. Department of Agriculture, STOP 1522, Room 5168, 1400 Independence Avenue SW, Washington, DC 20250-1522. MaryPat.Daskal@USDA.gov.

Title: 7 CFR part 1786, Prepayment of Rural Utilities Service Guaranteed and Insured Loans to Electric and Telephone Borrowers.

OMB Control Number: 0572-0088.

Type of Request: Extension of a currently approved collection.

Abstract: The Rural Utilities Service relies on the information provided by the borrowers in their financial statements to make lending decisions as to borrowers' credit worthiness and to assure that loan funds are approved, advanced and disbursed for proper RE Act purposes. This information collection contains submissions for 7 CFR part 1786, subpart E, “Discounted Prepayments on RUS Notes in the Event of a Merger of Certain RUS Electric Borrowers”, subpart F, “Discounted Prepayments on RUS Electric Loans”, and subpart G, “Refinancing and Prepayment of RUS Guaranteed FFB Loans pursuant to Section 306(c) of the RE Act”. Subparts E and F allow agency borrowers to prepay RUS loans and subpart G allows refinancing. These financial statements are audited by a certified public accountant to provide independent assurance that the data being reported are properly measured and fairly presented.

Estimate of Burden: Public reporting burden for this collection of information is estimated to average 2.00 hours per response.

Respondents: Business or other forprofit, Not-for-profit institutions.

Estimated Number of Respondents: 38.

Estimated Number of Responses per Respondent: 1.00.

Estimated Total Annual Burden on Respondents: 76 hours.

Copies of this information collection can be obtained from MaryPat Daskal, Rural Development Innovation Center-Regulations Management, at (202) 720-7853. Email: MaryPat.Daskal@usda.gov.

All responses to this notice will be summarized and included in the request for OMB approval. All comments will also become a matter of public record.

Dated: October 18, 2018.
Christopher A. McLean,
Acting Administrator, Rural Utilities Service.

[FR Doc. 2018-23499 Filed 10-26-18; 8:45 am]

BILLING CODE P